DEPARTMENT OF ENERGY

Federal Energy Regulatory Commission

Combined Notice of Filings

Take notice that the Commission has received the following Natural Gas Pipeline Rate and Refund Report filings:

Filings Instituting Proceedings

Docket Numbers: RP14-1307-000.

Applicants: Ruby Pipeline, L.L.C.

Description: Cost and Revenue Study of Ruby Pipeline, L.L.C.

Filed Date: 9/30/14.

Accession Number: 20140930-5324.

Comments Due: 5 p.m. ET 10/14/14.

Docket Numbers: RP15-24-000.

Applicants: Garden Banks Gas Pipeline, LLC.

Description: § 4(d) rate filing per 154.204: PAL Service and Clean-up Filing to be effective 11/1/2014.

Filed Date: 10/2/14.

Accession Number: 20141002-5000.

Comments Due: 5 p.m. ET 10/14/14.

Docket Numbers: RP15-25-000.

Applicants: Gulf South Pipeline Company, LP.

Description: § 4(d) rate filing per 154.204: Neg Rate Agmt Filing (ExGen Texas Power 43197, 43198) to be effective 10/1/2014.

Filed Date: 10/2/14.

Accession Number: 20141002-5029.

Comments Due: 5 p.m. ET 10/14/14.

Docket Numbers: RP15-26-000.

Applicants: Egan Hub Storage, LLC.

Description: § 4(d) rate filing per 154.204: Egan 2014 Cleanup Filing to be effective 11/3/2014.

Filed Date: 10/2/14.

Accession Number: 20141002-5111.

Comments Due: 5 p.m. ET 10/14/14.

Docket Numbers: RP15-27-000.

Applicants: Equitrans, L.P.

Description: § 4(d) rate filing per 154.204: Negotiated Rate Service Agreement—Triad Hunter to be effective 10/3/2014.

Filed Date: 10/2/14.

Accession Number: 20141002-5124.

Comments Due: 5 p.m. ET 10/14/14.

Docket Numbers: RP15-28-000.

Applicants: Bill Barrett Corporation,Vanguard Operating, LLC.

Description: Petition for Temporary Waiver of Capacity Release Rules and Request for Shortened Comment Period of Bill Barrett Corporation and Vanguard Operating, LLC.

Filed Date: 10/3/14.

Accession Number: 20141003-5127.

Comments Due: 5 p.m. ET 10/10/14.

Docket Numbers: RP15-29-000.

Applicants: Rockies Express Pipeline LLC.

Description: § 4(d) rate filing per 154.204: Neg Rate 2014-10-03 BP NC NRA to be effective 10/4/2014.

Filed Date: 10/3/14.

Accession Number: 20141003-5136.

Comments Due: 5 p.m. ET 10/15/14.

Docket Numbers: RP15-30-000.

Applicants: Southern Star Central Gas Pipeline, Inc.

Description: § 4(d) rate filing per 154.204: Miscellaneous Tariff Filing Correction to be effective 10/4/2014.

Filed Date: 10/3/14.

Accession Number: 20141003-5151.

Comments Due: 5 p.m. ET 10/15/14.

Docket Numbers: RP15-31-000.

Applicants: Enable Gas Transmission, LLC.

Description: § 4(d) rate filing per 154.204: Negotiated Rate Filing—October 2014—LER 1010222 Att A to be effective 10/3/2014.

Filed Date: 10/3/14.

Accession Number: 20141003-5197.

Comments Due: 5 p.m. ET 10/15/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 6, 2014.
Nathaniel J. Davis, Sr.,
Deputy Secretary.

[FR Doc. 2014-24369 Filed 10-10-14; 8:45 am]

BILLING CODE 6717-01-P